DEPARTMENT OF THE INTERIOR

Fish and Wildlife Service

Aquatic Nuisance Species Task Force Meeting

AGENCY: Fish and Wildlife Service, Interior.

ACTION: Notice of meeting.

SUMMARY: This notice announces a meeting of the Aquatic Nuisance Species (ANS) Task Force. The meeting is open to the public. The meeting topics are identified in the SUPPLEMENTARY INFORMATION section.

DATES: The ANS Task Force will meet from 8:30 a.m. to 5:30 p.m. on Wednesday, October 19, 2005, and Thursday, October 20, 2005.

ADDRESSES: The ANS Task Force meeting will be held at the Hyatt Dulles, 2300 Dulles Corner Blvd., Herndon, VA, 20171; (703) 713-1234. Minutes of the meeting will be maintained in the office of Chief, Division of Environmental Quality, U.S. Fish and Wildlife Service, Suite 322, 4401 North Fairfax Drive, Arlington, Virginia 22203, and will be made available for public inspection during regular business hours, Monday through Friday.

FOR FURTHER INFORMATION CONTACT: Scott Newsham, ANS Task Force Executive Secretary, at (703) 358-1796.

SUPPLEMENTARY INFORMATION: Pursuant to section 10(a)(2) of the Federal Advisory Committee Act (5 U.S.C. App.), this notice announces meetings of the ANS Task Force. The ANS Task Force was established by the Nonindigenous Aquatic Nuisance Prevention and Control Act of 1990.

Topics to be covered during the ANS Task Force meeting include: Federal member, Committee, and Regional Panel reports; revision of the Strategic Plan; regional priorities; 100th Meridian Initiative activities; Caulerpa eradication activities in California; Caulerpa national management plan; development of a national database of taxonomic experts; invasive species forecasting; and risk analysis.

Dated: September 26, 2005.
Everett Wilson,
Acting Co-Chair, Aquatic Nuisance Species Task Force, Assistant Director—Fisheries & Habitat Conservation.

[FR Doc. 05-20313 Filed 10-7-05; 8:45 am]

BILLING CODE 4310-55-P